DEPARTMENT OF DEFENSE

Department of the Army; Corps of Engineers

Intent To Prepare a Draft Environmental Impact Statement (DEIS) for the Construction of Western Wake Regional Wastewater Management Facilities, Regional Wastewater Pumping, Conveyance, Treatment, and Discharge Facilities To Serve the Towns of Apex, Cary, Holly Springs and Morrisville, as well as the Wake County Portion of Research Triangle Park (Service Area), NC

AGENCY: Department of the Army, U.S. Army Corps of the Engineers, DoD.

ACTION: Notice of intent.

SUMMARY: The U.S. Army Corps of Engineers (COE), Wilmington District, Wilmington Regulatory Division has received a request for Department of the Army authorization, pursuant to Section 404 of the Clean Water Act, from Western Wake Partners to construct Western Wake Regional Wastewater Management Facilities. This project will be a regional wastewater pumping, conveyance, treatment, and discharge project to serve the Towns of Apex, Cary, Holly Springs and Morrisville, as well as the Wake County portion of Research Triangle Park (service area), NC.

The project is being proposed by the Western Wake Partners to provide wastewater service for planned growth and development in the project service area and to comply with two regulatory mandates. One regulatory mandate has been issued by the North Carolina Environmental Management Commission (EMC), and the second regulatory mandate has been issued by the North Carolina Department of Environment and Natural Resources (NC DENR). In accordance with the two regulatory mandates, the proposed Project must be operational and discharging effluent to the Cape Fear River Basin by January 1, 2011.

DATES: A public scoping meeting for the DEIS will be held at 6 p.m. at the Town of Apex Town Hall, April 19, 2007. Written comments will be received until April 30, 2007.

ADDRESSES: Copies of comments and questions regarding scoping of the Draft EIS may be addressed to: U.S. Army Corps of Engineers, Wilmington District, Regulatory Division. ATTN: File Number SAW-200520159-1, P.O. Box 1890, Wilmington, NC 28402-1890.

FOR FURTHER INFORMATION CONTACT: Questions about the proposed action and DEIS can be directed to Mr. Henry Wicker, Regulatory Division, telephone: (910) 251-4930.

SUPPLEMENTARY INFORMATION: The proposed project consists of regional wastewater pumping, conveyance, treatment, and discharge facilities to serve the Towns of Apex, Cary, Holly Springs and Morrisville, as well as the Wake County portion of Research Triangle Park (service area), NC. The purpose of the project is to provide wastewater service for planned growth and development in the project service area and to comply with two regulatory mandates. One regulatory mandate has been issued by the North Carolina Environmental Management Commission (EMC), and the second regulatory mandate has been issued by the North Carolina Department of Environment and Natural Resources (NC DENR). In accordance with the two regulatory mandates, the proposed Project must be operational and discharging effluent to the Cape January 1, 2011.

Regulatory Mandate No. 1—Interbasin Transfer: The Towns of Apex, Cary, and Morrisville, as well as Research Triangle Park (RTP) South, obtain their drinking water from Jordan Lake in the Cape Fear River Basis and discharge treated effluent to locations in the Neuse River Basin. Obtaining water from one basin and discharging it to another river basin is referred to as an interbasin transfer (IBT), which requires a permit from the EMC. In July 2001, the EMC granted the Towns of Apex, Cary, and Morrisville, as well as Wake County (on behalf of RTP South), an IBT certificate to withdraw water from the Cape Fear River Basin and discharge the water to the Neuse River Basin. However, as a condition of approval, the IBT certificate issued by the EMC requires the local governments to return reclaimed water to the Cape Fear River Basin by January 1, 2011. As a result, the local governments have initiated activities to plan, permit, design, and construct wastewater transmission, treatment, and disposal facilities in order to comply with the terms and conditions of the IBT certificate issued by the EMC. The facilities that will be described and evaluated in the environmental impact statement (DEIS) are needed to comply with the IBT certificate terms and conditions.

Regulatory Mandate No. 2—Nutrient Enrichment for Harris Lake: The Town of Holly Springs currently has a wastewater treatment plant (WWTP) that discharges to Utley Creek, which is a tributary to Harris Lake in the Cape Fear River Basin. Representatives from NCDENR have directed the Town of Holly Springs to remove the Town's wastewater discharge from Utley Creek due to nutrient enrichment issues in Utley Creek and downstream in Harris Lake. In addition, NCDENR has encouraged Holly Springs to participate with Apex, Cary and Morrisville on a regional wastewater management program that will allow Holly Springs to remove the Town's discharge from Utley Creek by January 1, 2011. Thus, Holly Springs is participating with Apex, Cary and Morrisville in the planning, permitting, design and construction of regional effluent disposal facilities in order to comply with the mandate issued by NCDENR to remove its discharge from Utley Creek. The regional effluent disposal facilities that will be described and evaluated in the DEIS are needed to comply with the NCDENR mandate.

The proposed project will need to be reviewed to address a number of issues which includes an alternative analyses, direct environmental impacts, secondary and cumulative environmental impacts, environmental justice concerns, endangered species, and potential project costs.

Alternative Analysis: The purpose of the alternative analyses is to present a discussion of the environmental impacts associated with a reasonable number of alternatives. The proposed Project and a reasonable number of alternatives will be evaluated and compared in the DEIS. The factors to be considered will be similar for each of the alternatives. Impacts are expected to differ primarily in the degree to which specific factors may be affected.

The alternative analysis will evaluate alternative wastewater management options. Presently eight wastewater management options have been identified to be evaluated in the DEIS. These eight wastewater management alternatives include the following:

(1) No Action;

(2) Regional System with Cape Fear River Discharge;

(3) Regional System with Jordan Lake Discharge;

(4) Independent Systems;

(5) Purchasing Capacity from Other Systems;

(6) Optimum Operation of Existing Facilities;

(7) Regional Land Application System;

(8) Water Reuse System.

Alternative Discharge Locations: Four alternative discharge locations have been identified to be evaluated in the DEIS. These four alternative discharge locations include the following:

(1) Cape Fear River below Buckhorn Dam;

(2) New Hope Arm of Jordan Lake (above Jordan Lake Dam and below US 64);

(3) Cape Fear River/Haw River above Buckhorn Dam;

(4) Harris Lake/Utley Creek.

Alternative Water Reclamation Facility Sites: Preliminary investigations identified 30 potential locations for the Water Reclamation Facility (WRF). The DEIS will analyze all 30 potential locations to identify the impacts and use the information to make an appropriate site selection.

Alternative Raw Wastewater Pumping and Conveyance; Alternative raw wastewater pump station sites and force main routes will be evaluated in the DEIS for the preferred WRF site and discharge location.

Alternative Effluent Pumping and Conveyance: The effluent pump station will be located at the WRF site; therefore, selection of an effluent pump station site is inherent in the WRF site selection process. Alternative effluent force main routes will be evaluated in the DEIS for the preferred WRF site and discharge location.

Alternative Outfall Configurations at Cape Fear River: The DEIS will include evaluation of two configuration for the outfall structure. The alternatives to be evaluated include (a) bank discharge structure, and (b) instream diffuser.

Direct Environmental Impacts: The DEIS will identify and discuss the direct impacts of the proposed Project and feasible alternatives on topography, floodplains, soils, land use, wetlands, prime farmlands, public lands, historic and archaeological resources, air quality, noise, water resources, forest resources, shellfish and fish, wildlife and natural vegetation, the introduction of toxic substances, shore erosion and accretion, energy needs, safety, food and fiber production, mineral needs, and property ownership. Geographic Information System (GIS) data and mapping will be used to evaluate direct environmental impacts of the proposed Project and alternatives.

Secondary and Cumulative Environmental Impacts: The Western Wake Partners have developed Secondary and Cumulative Impacts Master Mitigation Plans to address secondary and cumulative impacts that are expected to result from the Western Wake Regional Wastewater Management Facilities project as well as other infrastructure projects that will be implemented in the Partners' jurisdictions in the future. Additional secondary and cumulative impacts will be addressed in the DEIS as recommended by the United States Army Corps of Engineers (USACE). GIS data and mapping will be used to evaluate and quantify secondary and cumulative impacts of the proposed Project to stream and wetland resources.

Environmental Justice: In accordance with Executive Order 12898, the DEIS will include an evaluation of the proposed Project's impact on minority and low-income populations. US Census Bureau data and GIS mapping will be used to determine the existence of all minority and low-income populations in the Projects service area and in the affected area for the preferred WRF site.

Endangered Species: A biological assessment will be included as an appendix to the document for the preferred alternative in accordance with the Endangered Species Act.

Project Costs: Project costs will be evaluated based on a 20 year present-worth costs and Phase 1 capital costs. 20-year present-worth costs allow for a direct comparison of long-term cost-effectiveness, and Phase 1 capital costs allow for a direct comparison of short-term capital requirements which have an immediate impact on sewer rates, fees, and charges. Mitigation costs for direct impacts to streams and wetlands will be estimated based on the Ecosystem Enhancement Program's schedule of fees.

NEPA/SEPA Preparation and Permitting: Because the proposed Western Wake Regional Wastewater Management Facilities Project requires approvals from federal and state agencies under both the National Environmental Policy Act (NEPA) and the State Environmental Policy Act (SEPA), a joint Federal and State Environmental Document will be prepared. The US Army Corps of Engineers will serve as the lead agency for the Federal process.

Based on the size and complexity of the proposed Project, the applicant has been encouraged by US Army Corps of Engineers and NCDENR staff to identify and address the environmental impacts of the proposed Project through the DEIS process. Within the DEIS, the applicant will conduct a thorough environmental review, including an evaluation of reasonable, feasible, and financially responsible alternatives. After review of the DEIS and final EIS, a Record of Decision (ROD) will be issued for the EIS document. The ROD will document the completion of the EIS and serve as a basis for further permitting decisions by federal and state agencies.

Scoping Process: A public scoping meeting (see DATES) will be held to receive public comment and assess public concerns regarding the appropriate scope and preparation of the DEIS. Participation in the public meeting by federal, state, and local agencies and other interested organizations and persons is encouraged. The Corps will also be consulting with the U.S. Fish and Wildlife Service under the Endangered Species Act and the Fish and Wildlife coordination Act. Additionally, the DEIS will assess the potential water quality impacts pursuant to Section 401 of the Clean Water Act. The corps will work closely with the NC DENR to ensure the process complies with all State Environmental Policy Act (SEPA) requirements. It is the Corps and NCDENR's intentions to consolidate both NEPA and SEPA processes to eliminate duplications.

Availability of the DEIS: The DEIS is expected to be published and circulated sometime in early 2008, and a public hearing will be held after the publication of the DEIS.

Patrick E. Tilque,
LTC U.S. Army, Deputy District Commander.

[FR Doc. 07-1741 Filed 4-6-07; 8:45 am]

BILLING CODE 3710-GN-M